DEPARTMENT OF THE INTERIOR

Fish and Wildlife Service

[FWS-R4-ES-2022-N053; FXES11140400000-223-FF04E00000]

Endangered Species; Recovery Permit Applications

AGENCY: Fish and Wildlife Service, Interior.

ACTION: Notice of receipt of permit applications; request for comments.

SUMMARY: We, the U.S. Fish and Wildlife Service, have received applications for permits, permit renewals, and/or permit amendments to conduct activities intended to enhance the propagation or survival of endangered species under the Endangered Species Act. We invite the public and local, State, Tribal, and Federal agencies to comment on these applications. Before issuing any of the requested permits, we will take into consideration any information that we receive during the public comment period.

DATES: We must receive written data or comments on the applications by November 10, 2022.

ADDRESSES:

Reviewing Documents: Submit requests for copies of applications and other information submitted with the applications to Karen Marlowe (see FOR FURTHER INFORMATION CONTACT). All requests and comments should specify the applicant name and application number (e.g., Mary Smith, ESPER0001234).

Submitting Comments: If you wish to comment, you may submit comments by one of the following methods:

• Email (preferred method): permitsR4ES@fws.gov. Please include your name and return address in your email message. If you do not receive a confirmation from the U.S. Fish and Wildlife Service that we have received your email message, contact us directly at the telephone number listed in FOR FURTHER INFORMATION CONTACT.

• U.S. mail: U.S. Fish and Wildlife Service Regional Office, Ecological Services, 1875 Century Boulevard, Atlanta, GA 30345 (Attn: Karen Marlowe, Permit Coordinator).

FOR FURTHER INFORMATION CONTACT: Karen Marlowe, Permit Coordinator, 404-679-7097 (telephone) or karen_marlowe@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act of 1974, as amended (5 U.S.C. 552a) and the Freedom of Information Act (5 U.S.C. 552).

Background

With some exceptions, the ESA prohibits take of listed species unless a Federal permit is issued that authorizes such take. The ESA's definition of “take” includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies and the public to submit written data, views, or arguments with respect to these applications. The comments and recommendations that will be most useful and likely to influence agency decisions are those supported by quantitative information or studies. Proposed activities in the following permit requests are for the recovery and enhancement of propagation or survival of the species in the wild.

Permit application No. | Applicant | Species | Location | Activity | Type of take | Permit action
TE 61981B-4 | The Peregrine Fund, Boise, ID | Puerto Rican sharp-shinned hawk (Accipiter striatus venator) | Puerto Rico | Captive propagation and reintroduction | Capture; band; color band; radio tag; collect blood and chest feathers; salvage carcasses, eggshells, and infertile eggs; treat individuals and nests for parasites; feed; collect eggs for captive propagation; and release | Renewal and amendment.
TE 237544-2 | Stephen Golladay, Newton, GA | Fat threeridge (Amblema neislerii), Gulf moccasinshell (Medionidus penicillatus), oval pigtoe (Pleurobema pyriforme), purple bankclimber (Elliptoideus sloatianus), and shinyrayed pocketbook (Hamiota subangulata) | Georgia | Presence/ probable absence surveys | Capture, handle, identify, release, and salvage relic shells | Renewal.
TE 063179-9 | Edwards-Pitman Environmental, Inc., Atlanta, GA | Fishes: Amber darter (Percina antesella), blue shiner (Cyprinella [=Notropis] caerulea), Cherokee darter (Etheostoma scotti), Conasauga logperch (P. jenkinsi), Etowah darter (E. etowahae), goldline darter (P. aurolineata), snail darter (P. tanasi), and trispot darter (E. trisella); Mussels: Alabama moccasinshell (Medionidus acutissimus), Altamaha spinymussel (Elliptio spinosa), Coosa moccasinshell (M. parvulus), dwarf wedgemussel (Alasmidonta heterodon), fat threeridge (Amblema neislerii), finelined pocketbook (Hamiota altilis), Georgia pigtoe (Pleurobema hanleyianum), Gulf moccasinshell (M. penicillatus), Ochlockonee moccasinshell (M. simpsonianus), oval pigtoe (P. pyriforme), purple bankclimber (Elliptoideus sloatianus), shinyrayed pocketbook (H. subangulata), southern clubshell (P. decisum), southern pigtoe (P. georgianum), Suwannee moccasinshell (M. walkeri), Tar River spinymussel (Parvaspina steinstansana), triangular kidneyshell (Ptychobranchus greenii), and yellow lance (Elliptio lanceolata) | Georgia and North Carolina | Presence/ probable absence surveys | Capture, handle, identify, release, and salvage relic shells | Renewal.
TE 117405-5 | Tennessee Valley Authority, Knoxville, TN | Mammals: Gray bat (Myotis grisescens), Indiana bat (M. sodalis), northern long-eared bat (M. septentrionalis), and Virginia big-eared bat (Corynorhinus townsendii virginianus); Reptiles: Flattened musk turtle (Sternotherus depressus) and ringed map turtle (Graptemys oculifera); Fishes: Alabama cavefish (Speoplatyrhinus poulsoni), Alabama sturgeon (Scaphirhynchus suttkusi), amber darter (Percina antesella), blackside dace (Chrosomus cumberlandensis), blue shiner (Cyprinella [=Notropis] caerulea), bluemask darter (Etheostoma akatulo), boulder darter (E. wapiti), Cahaba shiner (Notropis cahabae), Cherokee darter (E. scotti), chucky madtom (Noturus crypticus), Conasauga logperch (Percina jenkinsi), Cumberland darter (E. susanae), duskytail darter (E. percnurum), Etowah darter (E. etowahae), goldline darter (P. aurolineata), laurel dace (Chrosomus saylori), palezone shiner (Notropis albizonatus), pallid sturgeon (Scaphirhynchus albus), pygmy madtom (Noturus stanauli), relict darter (E. chienense), rush darter (E. phytophylum), smoky madtom (N. baileyi), snail darter (P. tanasi), spring pygmy sunfish (Elassoma alabamae), and vermilion darter (Etheostoma chermocki); Mussels: Alabama clubshell (Pleurobema troschelianum), Alabama lampmussel (Lampsilis virescens), Alabama moccasinshell (Medionidus acutissimus), Appalachian elktoe (Alasmidonta raveneliana), Applachian monkeyface (Theliderma sparsa), birdwing pearlymussel (Lemiox rimosus), black clubshell (Pleurobema curtum), clubshell (P. clava), Coosa moccasinshell (M. parvulus), cracking pearlymussel (Hemistena lata), Cumberland bean (Villosa trabalis), Cumberland elktoe (Alasmidonta atropurpurea), Cumberland monkeyface (T. intermedia), Cumberland pigtoe (Pleurnaia gibberum), Cumberlandian combshell (Epioblasma brevidens), dark pigtoe (Pleurobema furvum), dromedary pearlymussel (Dromus dromas), fanshell (Cyprogenia stegaria), fat pocketbook (Potamilus capax), finelined pocketbook (Hamiota altilis), | Alabama, Arkansas, Georgia, Kentucky, Mississippi, North Carolina, Tennessee, and Virginia | Presence/probable absence surveys and population monitoring | Mammals: Enter hibernacula or maternity roost caves, capture with mist nets or harp traps, handle, identify, band, collect hair samples, radio tag, light tag, and wing punch; Reptiles: Capture, identify, and release; Fishes: Capture, identify, fin clip, and release; Mussels and Snails: Capture, identify, release, and salvage relic shells; Arachnids: Search bryophyte mats; Crustaceans: Capture, identify, measure, sex, and release; Plants: Remove and reduce to possession (collect) seeds and plant material | Renewal and amendment.
|  | finerayed pigtoe (Fusconaia cuneolus), flat pigtoe (Pleurobema marshalli), fluted kidneyshell (Pytchobranchus subtentus), Georgia pigtoe (Pleurobema hanleyianum), green blossom (E. torulosa gubernaculum), heavy pigtoe (P. taitianum), inflated heelsplitter (Potamilius inflatus), littlewing pearlymussel (Pegias fabula), northern riffleshell (E. rangiana), orangefoot pimpleback (Plethobasus cooperianus), orangenacre mucket (H. perovalis), ovate clubshell (Pleurobema perovatum), oyster mussel (E. capsaeformis), pale lilliput (Toxolasma cylindrellus), pink mucket (Lampsilis abrupta), purple bean (Villosa perpurpurea), purple cat's paw (E. obliquata obliquata), rabbitsfoot (Quadrula cylindrica cylindrica), rayed bean (Villosa fabalis), ring pink (Obovaria retusa), rough pigtoe (Pleurobema plenum), rough rabbitsfoot (Q. cylindrica strigillata), scaleshell mussel (Leptodea leptodon), sheepnose mussel (Plethobasus cyphyus), shiny pigtoe (Fusconaia cor), slabside pearlymussel (Pleuronaia dolabelloides),
|  | snuffbox mussel (E. triquetra), southern acornshell (E. othcaloogensis), southern clubshell (Pleurobema decisum), southern combshell (E. penita), southern pigtoe (P. georgianum), spectaclecase (Cumberlandia monodonta), stirrupshell (Q. stapes), tan riffleshell (E. florentina walker [=E. walkeri]), triangular kidneyshell (Ptychobranchus greenii), tubercled blossom (E. torulosa torulosa), turgid blossom (E. turgidula), upland combshell (E. metastriata), white wartyback (Plethobasus cicatricosus),
|  | winged mapleleaf (Q. fragosa), and yellow blossom (E. florentina florentina); Snails: Anthony's riversnail (Athearnia anthonyi), armored snail (Marstonia pachyta), cylindrical lioplax (Lioplax cyclostomaformis), interrupted [=Georgia] rocksnail (Leptoxis foremani), lacy elimia (Elimia crenatella), painted rocksnail (L. taeniata), painted snake coiled forest snail (Anguispira picta), plicate rocksnail (L. plicata),
|  | rough hornsnail (Pleurocera foremani), royal marstonia (Marstonia ogmorhaphe), slender campeloma (Campeloma decampi), and tulotoma snail (Tulotoma magnifica); Arachnids: Spruce-fir moss spider (Microhexura montivaga); Crustaceans: Kentucky cave shrimp (Palaemonias ganteri) and Nashville crayfish (Orconectes shoupi);
|  | Plants: Alabama leather flower (Clematis socialis), Alabama streak-sorus fern (Thelypteris pilosa var. alabamensis), American chaffseed (Schwalbea americana), American hart's tongue fern (Asplenium scolopendrium var. americanum), Blue Ridge goldenrod (Solidago spithamaea), bunched arrowhead (Sagittaria fasciculata),
|  | Cumberland rosemary (Conradina verticillata), Georgia rockcress (Arabis georgiana), fleshy-fruit gladecress (Leavenworthia crassa), green pitcher-plant (Sarracenia oreophila), harperella (Ptilimnium nodosum), Heller's blazingstar (Liatris helleri), large-flowered skullcap (Scutellaria montana),
|  | leafy prairie-clover (Dalea foliosa), lyrate bladderpod (Lesquerella lyrata), Michaux's sumac (Rhus michauxii), Mohr's Barbara's buttons (Marshallia mohrii), Morefields leather flower (Clematis morefieldii), Mountain sweet pitcher-plant (Sarracenia rubra ssp. Jonesii), persistent trillium (Trillium persistens),
|  | pondberry (Lindera melissifolia), Prices potato-bean (Apios priceana), Guthrie's [=Pyne's] ground-plum (Astragalus bibullatus), relict trillium (T. reliquum), Roan Mountain bluet (Hedyotis purpurea var. montana), rock gnome lichen (Gymnoderma lineare), Ruth's golden aster (Pityopsis ruthii), Short's bladderpod (Physaria globosa),
|  | small whorled pogonia (Isotria medeoloides), smooth coneflower (Echinacea laevigata), spreading avens (Geum radiatum), Spring Creek bladderpod (Lesquerella perforata), swamp pink (Helonias bullata), Tennessee yellow-eyed grass (Xyris tennesseensis), Virginia round-lead birch (Betula uber), Virginia spiraea (Spiraea virginiana), white irisette (Sisyrinchium dichotomum), and whorled sunflower (Helianthus verticillatus)
TE 34882A-4 | Mark Bailey, Andalusia, AL | Black warrior waterdog (Necturus alabamensis) | Alabama | Presence/ probable absence surveys | Capture, handle, and release | Amendment.
TE 81492B-1 | Dylan Brooks, Sylva, NC | Gray bat (Myotis grisescens), Indiana bat (M. sodalis), and northern long-eared bat (M. septentrionalis) | Alabama, Arkansas, Connecticut, Delaware, Georgia, Illinois, Indiana, Iowa, Kansas, Kentucky, Maryland, Massachusetts, Michigan, Minnesota, Mississippi, Missouri, Nebraska, New Hampshire, New Jersey, New York, North Carolina, North Dakota, Ohio, Oklahoma, Pennsylvania, Rhode Island, South Carolina, South Dakota, Tennessee, Vermont, Virginia, West Virginia, and Wisconsin | Presence/ probable absence surveys, habitat use and assessment research, population monitoring, and studies to evaluate potential impacts of White-nose Syndrome or other potential threats | Capture with mist nets and harp traps, handle, identify, band, and radio tag | Renewal and amendment.
TE 070846-4 | Jeffrey Walters, Blacksburg, VA | Red-cockaded woodpecker (Picoides borealis) | Camp Lejeune, NC | Population management and monitoring | Monitor nests, capture, band, radio tag, construct artificial nest cavities and restrictors, and translocate | Renewal.
TE 91733B-1 | Joshua Adams, Lexington, KY | Mammals: Gray bats (Myotis grisescens), Indiana bats (M. sodalis), northern long-eared bats (M. septentrionalis), Ozark big-eared bat (Corynorhinus townsendii ingens), and Virginia big-eared bats (C. t. virginianus); Fishes: Blackside dace (Phoxinus cumberlandensis) and Kentucky arrow darter (Etheostoma spilotum) | Alabama, Arkansas, Connecticut, Delaware, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, and Wisconsin | Presence/ probable absence surveys | Mammals: Capture with mist nets, handle, band, radio tag, and release; Fishes: capture via seining, netting, or electroshocking, handle, identify, and release | Renewal

Public Availability of Comments

Written comments we receive become part of the administrative record associated with this action. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Next Steps

If we decide to issue a permit to an applicant listed in this notice, we will publish a notice in the Federal Register.

Authority

We publish this notice under section 10(c) of the Endangered Species Act of 1973, as amended (16 U.S.C. 1531 et seq.).

John Tirpak,
Deputy Assistant Regional Director, Ecological Services, Southeast Region.

[FR Doc. 2022-22058 Filed 10-7-22; 8:45 am]

BILLING CODE 4333-15-P